DEPARTMENT OF COMMERCE

National Oceanic and Atmospheric Administration

RIN 0648-XG307

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, July 17, 2018, from 12:30 p.m. through 5:30 p.m. and on Wednesday, July 18, 2018, from 8:30 a.m. to 12:30 p.m. See SUPPLEMENTARY INFORMATION for agenda details.

ADDRESSES: The meeting will take place at the Hyatt Place Inner Harbor, 511 South Central Avenue, Baltimore, MD 21201; telephone: (410) 558-1840.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to make multi-year acceptable biological catch (ABC) recommendations for Chub Mackerel based on the most recent and appropriate information available. The SSC will also make ABC recommendations for the 2019 fishing year for summer flounder and bluefish based on the most recent fishery information. A review the most recent survey and fishery data and the currently implemented 2019 ABC for scup and the previously recommended 2019 ABC for black sea bass will also be conducted. In addition, the SSC may take up any other business as necessary.

A detailed agenda and background documents will be made available on the Council's website (www.mafmc.org) prior to the meeting.

Special Accommodations

These meetings are physically accessible to people with disabilities. Requests for sign language interpretation or other auxiliary aid should be directed to M. Jan Saunders, (302) 526-5251, at least 5 days prior to the meeting date.

Dated: June 20, 2018.
Tracey L. Thompson,
Acting Deputy Director, Office of Sustainable Fisheries, National Marine Fisheries Service.

[FR Doc. 2018-13535 Filed 6-22-18; 8:45 am]

BILLING CODE 3510-22-P